DEPARTMENT OF HEALTH AND HUMAN SERVICES

Centers for Disease Control and Prevention

[60 Day-05AD]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-498-1210 or send comments to Seleda Perryman, CDC Assistant Reports Clearance Officer, 1600 Clifton Road, MS-E11, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Helping to End Lead Poisoning (HELP): A Questionnaire Study of Medicaid Providers' Beliefs, Barriers, Knowledge, and Cues to Action for Childhood Blood Lead Testing—New—National Center for Environmental Health (NCEH), Centers for Disease Control and Prevention (CDC).

According to the United States Department of Health and Human Services (DHHS), lead poisoning is one of the most serious environmental threats to children in the United States. Very high blood lead levels in children can cause encephalopathy, coma, and even death. At lower levels, lead poisoning is a silent attacker because most children who are lead poisoned do not show symptoms. Low levels of lead poisoning are often associated with reductions in IQ and attention span, and with learning disabilities, hyperactivity, and behavioral problems. Because of these subtle effects, the best way to determine if a child has lead poisoning is by giving the child a blood lead test. Children eligible for Medicaid are typically at highest risk for lead exposure. DHHS policies require blood lead testing for all children participating in federal health care programs. However, most children in or targeted by federal health care programs have not been tested. This study will help to provide some of the reasons why most children are not being tested.

Although blood lead testing is important, it is ineffective unless it is performed when the child is young enough to receive the full benefits of effective environmental interventions. Thus, it was determined by CDC that more information is needed to understand the barriers Medicaid providers face when it comes to blood lead testing.

HELP is a comparison study between two communities in Wisconsin. To determine why some areas in Wisconsin have high blood lead testing rates and others do not, Medicaid providers in two areas will be studied. Community 1 has high and Community 2 has low blood lead testing rates. Questionnaires will be mailed to all Medicaid providers in these two Wisconsin communities. The questionnaires will be mailed from the Wisconsin Childhood Lead Poisoning Prevention Program in Milwaukee, Wisconsin. CDC will analyze the data from the questionnaires. CDC and the Wisconsin Childhood Lead Poisoning Prevention Program staff will use this information to understand the barriers Medicaid providers face concerning blood lead testing and to develop effective strategies that promote blood lead testing among Medicaid providers. There are no costs to respondents except their time to participate.

Annualized Burden Table
Respondents | Number of respondents | Number of responses per respondent | Average burden per response (in hrs.) | Total burden hours
Targeted Medicaid Providers in Wisconsin | 500 | 1 | 10/60 | 83
Total |  |  |  | 83

Dated: November 3, 2004.
B. Kathy Skipper,
Acting Director, Management Analysis and Services Office, Centers for Disease Control and Prevention.

[FR Doc. 04-24893 Filed 11-8-04; 8:45 am]

BILLING CODE 4163-18-P